DEPARTMENT OF COMMERCE

National Oceanic and Atmospheric Administration

50 CFR Part 229

[Docket No. 240911-0235]

RIN 0648-BM91

Marine Mammal Protection Act List of Fisheries for 2025; Reopening Public Comment Period

AGENCY: National Marine Fisheries Service (NMFS), National Oceanic and Atmospheric Administration (NOAA), Commerce.

ACTION: Proposed rule; reopening of comment period.

SUMMARY: On September 24, 2024, NMFS published its proposed List of Fisheries (LOF) for 2025, as required by the Marine Mammal Protection Act (MMPA). The original comment period closed on October 24, 2024. In response to requests to extend the public comment period, NMFS is reopening the comment period through December 1, 2024.

DATES: Comments must be received by December 1, 2024.

ADDRESSES: A plain language summary of this proposed rule is available at https://www.regulations.gov/docket/NOAA-NMFS-2024-0037. You may submit comments on this document, identified by NOAA-NMFS-2024-0037, by either of the following methods:

Electronic Submission: Submit all electronic public comments via the Federal e-Rulemaking Portal. Go to https://www.regulations.gov and enter NOAA-NMFS-2024-0037 in the Search box. Click on the “Comment” icon, complete the required fields, and enter or attach your comments.

Mail: Chief, Marine Mammal and Sea Turtle Conservation Division, Office of Protected Resources, NMFS, 1315 East-West Highway, Silver Spring, MD 20910.

Instructions: Comments sent by any other method, to any other address or individual, or received after the end of the comment period may not be considered by NMFS. All comments received are a part of the public record and will generally be posted for public viewing on https://www.regulations.gov without change. All personal identifying information (e.g., name, address), confidential business information, or otherwise sensitive information submitted voluntarily by the sender will be publicly accessible. NMFS will accept anonymous comments (enter N/A in the required fields if you wish to remain anonymous).

FOR FURTHER INFORMATION CONTACT: Jaclyn Taylor, Office of Protected Resources, 301-427-8402; Cheryl Cross, Greater Atlantic Region, 978-281-9100; Jessica Powell, Southeast Region, 727-824-5312; Dan Lawson, West Coast Region, 206-526-4740; Suzie Teerlink, Alaska Region, 907-586-7240; Jamie Marchetti 808-725-5108, Pacific Islands Region, 808-725-5085. Individuals who use a telecommunications device for the hearing impaired may call the Federal Information Relay Service at 1-800-877-8339 between 8 a.m. and 4 p.m. Eastern time, Monday through Friday, excluding Federal holidays.

SUPPLEMENTARY INFORMATION: On September 24, 2024, NMFS published its proposed LOF for 2025, as required by the MMPA, in the Federal Register (89 FR 77789). The original 30-day comment period for the proposed rule closed on October 24, 2024. NMFS received two requests to extend the comment period. Based on the requests, NMFS is reopening the comment period for the proposed rule through December 1, 2024.

Dated: October 28, 2024.
Samuel D. Rauch III,
Deputy Assistant Administrator for Regulatory Programs, National Marine Fisheries Service.

[FR Doc. 2024-25419 Filed 10-31-24; 8:45 am]

BILLING CODE 3510-22-P